SMALL BUSINESS ADMINISTRATION

13 CFR Part 127

RIN 3245-AG75

Women-Owned Small Business and Economically Disadvantaged Women-Owned Small Business Certification; Establishment of Effective Date

AGENCY: U.S. Small Business Administration (SBA).

ACTION: Final rule; establishment of effective date.

SUMMARY: This action establishes the effective date of regulations added by SBA in a final rule published in the Federal Register on May 11, 2020, “Women-Owned Small Business and Economically Disadvantaged Women-Owned Small Business Certification.”

DATES: The effective date of 13 CFR 127.355, added by the rule published on May 11, 2020, at 85 FR 27650, is January 20, 2022, and is applicable beginning May 3, 2021.

FOR FURTHER INFORMATION CONTACT: Kelly Jackson, Office of Government Contracting and Business Development, 409 Third Street SW, Washington, DC 20416; (202) 205-0108; kelly.jackson@sba.gov.

SUPPLEMENTARY INFORMATION: On May 11, 2020, SBA published a final rule titled, “Women-Owned Small Business and Economically Disadvantaged Women-Owned Small Business Certification” (85 FR 27650). The final rule revised part 127 of SBA's regulations, “Women-Owned Small Business Federal Contract Program”, to implement a statutory requirement to certify Women-Owned Small Business Concerns and Economically-Disadvantaged Women-Owned Small Business Concerns. A set of corrections was published in the Federal Register on January 14, 2021 (86 FR 2960). This document establishes the effective date for § 127.355, “How will SBA ensure that approved third-party certifiers are meeting the requirements?”, a section that was added to part 127 by the final rule.

At the time the final rule was published, the effective date of § 127.355 was delayed indefinitely because this regulation implicated the Paperwork Reduction Act. Under the Paperwork Reduction Act, SBA was required to obtain approval from the Office of Management and Budget for an information collection titled, “Certification for the Women-Owned Small Business Federal Contract Program” (OMB Control No. 3245-0374). The Office of Management and Budget approved the information collection on May 3, 2021. Therefore, SBA hereby establishes an effective date of May 3, 2021, for 13 CFR 127.355.

Antonio Doss,
Deputy Associate Administrator, Government Contracting and Business Development.

[FR Doc. 2022-00603 Filed 1-20-22; 12:30 pm]

BILLING CODE 8026-03-P